DEPARTMENT OF THE INTERIOR

Bureau of Indian Affairs

Notice of Intent To Prepare an Environmental Impact Statement for the Proposed Menominee Nation Casino and Hotel Project, Kenosha, WI

AGENCY: Bureau of Indian Affairs, Interior.

ACTION: Notice.

SUMMARY: This notice advises the public that the Bureau of Indian Affairs (BIA) as lead agency, with the Menominee Nation as a cooperating agency, intends to gather information necessary for preparing an Environmental Impact Statement (EIS) for a proposed casino and hotel project to be located in Kenosha, Wisconsin. The purpose of the proposed action is to help address the socio-economic needs of the Menominee Nation. This notice also announces a public scoping meeting to identify public and agency concerns and alternatives to be considered in the EIS.

DATES: Written comments on the scope and implementation of this proposal must arrive by August 20, 2004. The public hearing will be held August 3, 2004, starting at 7 p.m.

ADDRESSES: You may mail or hand carry written comments to the Bureau of Indian Affairs, Attn: Herb Nelson, One Federal Drive, Rm. 550, Ft. Snelling, Minnesota 55111. Please include your name, return address and the caption: “DEIS Scoping Comments, Kenosha Casino Project,” on the first page of your written comments.

The public scoping meeting will be held at Gateway Technical College Conference Center-Madrigrano Auditorium, 3320 30th Avenue, Kenosha, Wisconsin. It will be co-hosted by the BIA and the Menominee Nation.

FOR FURTHER INFORMATION CONTACT: Herb Nelson, (612) 713-4400, extension 1143.

SUPPLEMENTARY INFORMATION: The proposed project is located at the site of the existing Dairlyland Greyhound Park at 5522-104th Avenue, Kenosha, Wisconsin 53144. As part of the project, the site would be taken into federal trust by the U.S. Department of the Interior on behalf of the Menominee Nation. The site consists of 1 parcel totaling approximately 223 acres. The proposed project site is approximately one-half mile east from Interstate 94 and approximately 35 miles south of Milwaukee, Wisconsin. In addition to the proposed action, a reasonable range of alternatives, including a no-action alternative, will be analyzed in the EIS.

The Menominee Nation consists of approximately eight thousand one hundred twenty (8120) members. It is governed by a tribal council, consisting of 9 members, under a federally approved constitution. The Menominee Nation presently has approximately 228,000 acres of land in trust with the U.S. Government and is eligible to acquire additional land to be placed in trust.

Public Comment Availability

Comments, including names and addresses of respondents, will be available for public review at the mailing address shown in the ADDRESSES section, during regular business hours, 8 a.m. to 4:30 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

Authority

This notice is published in accordance with section 1503.1 of the Council on Environmental Quality Regulations (40 CFR Parts 1500 through 1508) implementing the procedural requirements of the National Environmental Policy Act of 1969, as amended (42 U.S.C. 4321 et seq.), and the Department of the Interior Manual (516 DM 1-6), and is in the exercise of authority delegated to the Assistant Secretary—Indian Affairs by 209 DM 8.

Dated: June 14, 2004.
Woodrow W. Hopper,
Deputy Assistant Secretary—Management.

[FR Doc. 04-14240 Filed 6-22-04; 8:45 am]

BILLING CODE 4310-W7-P